DEPARTMENT OF THE INTERIOR

Fish and Wildlife Service

[FWS-R1-ES-2014-N155; FXES11120100000-145-FF01E00000]

Draft Candidate Conservation Agreement With Assurances and Receipt of Application for an Enhancement of Survival Permit for the Greater Sage-Grouse on Private Rangelands, Baker and Malheur Counties, Oregon

AGENCY: Fish and Wildlife Service, Interior.

ACTION: Notice of availability; request for comments.

SUMMARY: We, the U.S. Fish and Wildlife Service, have received an application for an enhancement of survival permit under the Endangered Species Act of 1973, as amended. The permit application includes a draft candidate conservation agreement with assurances (CCAA) for the greater sage-grouse on private rangelands in Baker and Malheur Counties, Oregon. We invite comments from all interested parties on the application, including the draft CCAA, and a draft environmental action statement prepared pursuant to the requirements of the National Environmental Policy Act.

DATES: To ensure consideration, written comments must be received from interested parties no later than September 15, 2014.

ADDRESSES: To request further information or submit written comments, please use one of the following methods, and note that your information request or comments are in reference to the Moore CCAA.

• Internet: Documents may be viewed on the Internet at http://www.fws.gov/oregonfwo/ToolsForLandowners/HabitatConservationPlans/.

• Email: Gary_Miller@fws.gov. Include “Moore CCAA” in the subject line of the message or comments.

• U.S. Mail: U.S. Fish and Wildlife Service, La Grande Field Office, 3502 Highway 30, La Grande, OR 97850.

• Fax: 541-962-8581. Include “Moore CCAA” in the subject line of the message or comments.

• In-Person Viewing or Pickup: Documents will be available for public inspection by appointment during normal business hours at the U.S. Fish and Wildlife Service, La Grande Field Office, 3502 Highway 30, La Grande, OR 97850.

FOR FURTHER INFORMATION CONTACT: Gary Miller or Marisa Meyer, U.S. Fish and Wildlife Service, La Grande Field Office (see ADDRESSES), telephone: 541-962-8584. If you use a telecommunications device for the deaf, please call the Federal Information Relay Service at 800-877-8339.

SUPPLEMENTARY INFORMATION: We, the U.S. Fish and Wildlife Service (Service), have received an application from Mr. and Mrs. William Moore (applicants) for an enhancement of survival (EOS) permit under the Endangered Species Act (ESA; 16 U.S.C. 1531 et seq.). The permit application includes a candidate conservation agreement with assurances (CCAA) between the applicants and the Service for the greater sage-grouse (Centrocercus urophasianus) in Baker and Malheur Counties, Oregon. The Service and the applicants prepared the CCAA to provide the applicants with the opportunity to voluntarily conserve the greater sage-grouse and its habitat while carrying out ranch operations. We have made a preliminary determination that the proposed CCAA and permit issuance are eligible for categorical exclusion under NEPA. The basis for our preliminary determination is contained in an environmental action statement (EAS). We invite comments from all interested parties on the application, including the CCAA and the EAS.

Background Information

Private and other non-Federal property owners are encouraged to enter into CCAAs, in which they voluntarily undertake management activities on their properties to enhance, restore, or maintain habitat benefiting species that are proposed for listing under the ESA, candidates for listing, or species that may become candidates or proposed for listing. Through a CCAA and its associated EOS permit the Service provides assurances to property owners that they will not be subjected to increased land use restrictions if the covered species become listed under the ESA in the future, provided the CCAA is being properly implemented and the EOS permit conditions are met. Application requirements and issuance criteria for EOS permits for CCAAs are found in the Code of Regulations (CFR) at 50 CFR 17.22(d) and 17.32(d), respectively. See also our joint policy on CCAAs, which we published in the Federal Register with the Department of Commerce's National Oceanic and Atmospheric Administration, National Marine Fisheries Service (64 FR 32726; June 17, 1999), as well as our revisions to that policy (69 FR 24084; May 3, 2004).

On March 23, 2010, the Service published a 12-month finding in the Federal Register (75 FR 13910) that the greater sage-grouse (rangewide) warrants listing under the ESA as threatened or endangered throughout its range, but this action was precluded by other higher priority listing actions. In anticipation of a future listing decision by the Service, the applicants requested assistance from the Service in developing a CCAA addressing the needs of sage-grouse on lands they own in Malheur County and lands they lease through a long-term lease in Baker County, Oregon. Under the proposed CCAA, the applicants will address threats to the sage-grouse through the implementation of conservation measures that are consistent with their land use activities and the CCAA. Through the EOS permit issued pursuant to section 10(a)(1)(A) of the ESA, the applicants would be authorized to incidentally take the sage-grouse in the course of implementing the CCAA if the species becomes listed under the ESA in the future, as long as the terms and conditions of the permit and the CCAA are followed.

Proposed Action

Consistent with our CCAA Policy, the conservation goal of the proposed CCAA is to encourage enhancement and protection of suitable sage-grouse habitat on the enrolled lands by either maintaining or modifying existing land uses so that they are consistent with the conservation needs of the sage-grouse. We can facilitate this conservation goal by giving non-Federal landowners incentives to implement conservation measures, primarily through regulatory certainty concerning land-use restrictions that might otherwise apply should the sage-grouse become listed under the ESA. The Service proposes to approve the CCAA and to issue an EOS permit to the applicants for incidental take of the greater sage-grouse caused by covered activities, if permit issuance criteria are met. Both the CCAA and the permit would have a term of 30 years.

The area to be addressed under this proposed CCAA (i.e., covered lands) is approximately 7,290 acres that are located in Baker and Malheur Counties, Oregon. Sage-grouse currently use suitable habitat on the covered lands for lekking (breeding displays), late brood-rearing, and wintering. The proposed CCAA describes all of the threats to the sage-grouse that have been identified on the enrolled lands, and the conservation measures the applicants will be implementing to address those threats. Implementation of the conservation measures identified in the CCAA is expected to benefit the sage-grouse by means of (1) maintenance of large tracts of unfragmented and undeveloped land; (2) management of fuels to help reduce the risk of catastrophic wildfires; (3) management of weeds and invasive plant species; and (4) maintenance of healthy, intact sage-grouse lekking, brood-rearing, and wintering habitats.

We have made a preliminary determination that the proposed CCAA and permit issuance are eligible for categorical exclusion under the NEPA. The basis for our preliminary determination is contained in an EAS, which is available for public review (see ADDRESSES).

Public Comments

We request data, comments, new information, or suggestions from the public, other concerned governmental agencies, the scientific community, Tribes, industry, or any other interested party on this notice. We particularly seek comments on the following: (1) Biological information concerning the greater sage-grouse; (2) relevant data concerning this species; (3) additional information concerning the range, distribution, population size, and population trends of the greater sage-grouse; (4) current or planned activities in the covered area and their possible impacts on the species; (5) identification of any other environmental issues that should be considered with regard to the proposed permit action; and (6) information regarding the adequacy of the CCAA pursuant to the requirements for permits at 50 CFR parts 13 and 17.

Public Availability of Comments

All comments and materials we receive become part of the public record associated with this action. Before including your address, phone number, email address, or other personally identifiable information (PII) in your comments, you should be aware that your entire comment—including your PII—may be made publicly available at any time. While you can ask us in your comment to withhold your PII from public review, we cannot guarantee that we will be able to do so. Comments and materials we receive, as well as supporting documentation we used in preparing the draft EAS, will be available for public inspection by appointment, during normal business hours, at our La Grande Field Office (see ADDRESSES).

Next Steps

We will evaluate the permit application, associated documents, and comments we receive to determine whether the permit application meets the requirements of section 10(a) of the ESA and NEPA and their respective implementing regulations. We will also evaluate whether issuance of an EOS permit would comply with section 7 of the ESA by conducting an intra-Service section 7 consultation on the proposed permit action. If we determine that all requirements are met, we will sign the proposed CCAA and issue an EOS permit under section 10(a)(1)(A) of the ESA to the applicants for take of sage-grouse caused by covered activities under the CCAA. We will not make our final decision until after the end of the 30-day public comment period, and we will fully consider all comments and information we receive during the public comment period.

Authority

We provide this notice in accordance with the requirements of section 10(c) of the ESA (16 U.S.C. 1531 et seq.) and NEPA (42 U.S.C. 4321 et seq.) and their implementing regulations (50 CFR 17.22 and 40 CFR 1506.6, respectively).

Dated: July 30, 2014.
Paul Henson,
State Supervisor, Oregon Fish and Wildlife Office, U.S. Fish and Wildlife Service, Portland, Oregon.

[FR Doc. 2014-19371 Filed 8-14-14; 8:45 am]

BILLING CODE 4310-55-P